DEPARTMENT OF THE TREASURY

Bureau of the Fiscal Service

Proposed Collection of Information: “Notice of Reclamation—Electronic Funds Transfer, Federal Recurring Payments”

ACTION: Notice and request for comments.

SUMMARY: The Department of the Treasury, as part of its continuing effort to reduce paperwork and respondent burden, invites the general public and other Federal agencies to take this opportunity to comment on a proposed and/or continuing information collection, as required by the Paperwork Reduction Act of 1995, Public Law 104-13 (44 U.S.C. 3506(c)(2)(A)). Currently the Bureau of the Fiscal Service within the Department of the Treasury is soliciting comments concerning Notice of Reclamation—Electronic Funds Transfer, Federal Recurring Payments.

DATES: Written comments should be received on or before September 22, 2015 to be assured of consideration.

ADDRESSES: Direct all written comments and requests for further information to Bureau of the Fiscal Service, Bruce A. Sharp, 200 Third Street A4-A, Parkersburg, WV 26106-1328, or bruce.sharp@fiscal.treasury.gov.

FOR FURTHER INFORMATION CONTACT: Requests for additional information or copies of the form(s) and instructions should be directed to Kwema Ledbetter, Director, Project Management Division, Room 611B, 3700 East West Highway, Hyattsville, MD 20782, 202-874-5151 kwema.ledbetter@fiscal.treasury.gov.

SUPPLEMENTARY INFORMATION:

Title: Notice of Reclamation—Electronic Funds Transfer, Federal Recurring Payments.

OMB Number: 1530-0003 (Previously approved as 1510-0043 as a collection conducted by Department of the Treasury/Financial Management Service.) Transfer of OMB Control Number: The Financial Management Service (FMS) and the Bureau of Public Debt (BPD) have consolidated to become the Bureau of the Fiscal Service (Fiscal Service). Information collection requests previously held separately by FMS and BPD will now be identified by a 1530 prefix, designating Fiscal Service.

Form Number: FS Form 133.

Abstract: FS Form 133 is utilized to notify financial institutions of an obligation to repay payments erroneously issued to a deceased Federal benefit payment recipient. The information collected from the financial institutions is used by Treasury to close out the request from a program agency to collect an EFT payment from the financial institution to which a beneficiary was not entitled.

Current Actions: Extension of a currently approved collection.

Type of Review: Regular.

Affected Public: Business or other for-profit.

Estimated Number of Respondents: 223,128.

Estimated Time per Respondent: 8 minutes.

Estimated Total Annual Burden Hours: 29,750.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: July 21, 2015.
Bruce A. Sharp,
Bureau Clearance Officer.

[FR Doc. 2015-18194 Filed 7-23-15; 8:45 am]

BILLING CODE 4810-AS-P